DEPARTMENT OF HOMELAND SECURITY

Federal Emergency Management Agency

[Docket ID FEMA-2017-0003; OMB No. 1660-0005]

Agency Information Collection Activities: Proposed Collection; Comment Request; National Flood Insurance Program Claims Forms

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the collection of information related to the flood insurance claims process.

DATES: Comments must be submitted on or before March 14, 2017.

ADDRESSES: To avoid duplicate submissions to the docket, please use only one of the following means to submit comments.

(1) Online: Submit comments at www.regulations.gov under Docket ID FEMA-2017-0003. Follow the instructions for submitting comments.

(2) Mail: Submit written comments to Docket Manager, Office of Chief Counsel, DHS/FEMA, 500 C Street SW., 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer www.regulations.gov.

FOR FURTHER INFORMATION CONTACT: Susan Bernstein, Mitigation, National Flood Insurance Program, (202) 212-2113. You may contact the Records Management Division for copies of the proposed collection of information at email address: FEMA-Information-Collections-Management@fema.dhs.gov.

SUPPLEMENTARY INFORMATION: The National Flood Insurance Program (NFIP) is codified as 42 U.S.C. 4001, et sec. and is authorized by Public Law 90-448 (1968) and expanded by Public Law 93-234 (1973). The National Flood Insurance Act of 1968 requires that the Federal Emergency Management Agency (FEMA) provides flood insurance at full actuarial rates with limited exceptions for certain structures reflecting the complete flood risk to structures built or substantially improved on or after the effective date for the initial Flood Insurance Rate Map (FIRM) for the community, or after December 31, 1974, whichever is later, so that the risk associated with buildings in flood-prone areas are borne by those located in such areas and not by the taxpayers at large. In accordance with Public Law 93-234, the purchase of flood insurance is mandatory when Federal or federally related financial assistance is being provided for acquisition or construction of buildings located, or to be located, within FEMA-identified special flood hazard areas of communities that are participating in the NFIP. When flood damage occurs to insured property, information is collected to report, investigate, and negotiate in order to settle the claim.

The NFIP Appeals Process

Section 205 of The Bunning-Bereuter-Blumenauer Flood Insurance Reform Act (FIRA) of 2004, Public Law 108-264, requires FEMA to establish by regulation an additional process for the appeal of decisions of flood insurance claims issued through the NFIP. Consequently, FEMA published an interim final rule on May 26, 2006 (71 FR 30294) and a final rule on October 13, 2006 (71 FR 60435) codifying into regulation what was previously an existing informal process to handle appeals regarding decisions related to coverage, or claims under the NFIP.

Collection of Information

Title: National Flood Insurance Program Claims Forms.

Type of Information Collection: Revision of a currently approved information collection.

OMB Number: 1660-0005.

FEMA Forms: FEMA Form 086-0-6; Worksheet-Contents-Personal Property; 086-0-7; Worksheet—Building; 086-0-8; Worksheet—Building (Continued); 086-0-9; Proof of Loss; 086-0-10; Increased Cost of Compliance Proof of Loss; 086-0-11; Notice of Loss; 086-0-12; Statement as to Full Cost of Repair or Replacement under the Replacement Cost Coverage, Subject to the Terms and Conditions of this Policy (proposed for removal); 086-0-13; National Flood Insurance Program Preliminary Report; 086-0-14; National Flood Insurance Program Final Report; 086-0-15; National Flood Insurance Program Narrative Report; 086-0-16; Cause of Loss and Subrogation Report; 086-0-17; Manufactured (Mobile) Home/Travel Trailer Worksheet; 086-0-18; Manufactured (Mobile) Home/Travel Trailer Worksheet (continued); 086-0-19; Increased Cost of Compliance (ICC) Adjusters Report; 086-0-20; Adjuster Preliminary Damage Assessment; 086-0-21; Adjuster Certification Application. NFIP Claims Appeals Process (Flood Claims Insurance Handbook).

Abstract: The NFIP appeal process establishes a formal mechanism to allow NFIP policyholders to appeal the decisions of any insurance agent, adjuster, insurance company, or any FEMA employee or contractor, in cases of unsatisfactory decisions on claims, proof of loss, and loss estimates.

Affected Public: Individuals, households, farms, businesses, and other for profit.

Number of Respondents: 49,373.

Number of Responses: 49,373.

Estimated Total Annual Burden Hours: 31,737.

Estimated Cost: The estimated annual cost to respondents for the hour burden is $1,432,419. There are no recordkeeping, capital, start-up or maintenance costs associated with this information collection. The cost to the Federal Government is $4,000,434.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: January 9, 2017.
Richard W. Mattison,
Records Management Program Chief, Mission Support, Federal Emergency Management Agency, Department of Homeland Security.

[FR Doc. 2017-00673 Filed 1-12-17; 8:45 am]

BILLING CODE 9110-52-P